COMMITTEE FOR THE IMPLEMENTATION OF TEXTILE AGREEMENTS

Establishment of Agreed Import Levels for Certain Cotton, Wool, Man-Made Fiber, Silk Blend and Other Vegetable Fiber Textiles and Textile Products Produced or Manufactured in the People's Republic of China

November 27, 2007.

AGENCY: Committee for the Implementation of Textiles Agreements (CITA).

ACTION: Directive to Commissioner, U.S. Customs and Border Protection (CBP) establishing agreed levels.

EFFECTIVE DATE: January 1, 2008.

FOR FURTHER INFORMATION CONTACT: Ross Arnold, International Trade Specialist, Office of Textiles and Apparel, U.S. Department of Commerce, (202) 482-4212. For information on the quota status of these limits, refer to U.S. Customs and Border Protection website (http://www.cbp.gov), or call (202) 863-6560. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

In the Memorandum of Understanding (MOU) between the Governments of the United States of America and the People's Republic of China concerning Trade in Textile and Apparel Products, signed and dated November 8, 2005, and Paragraph 242 of the Report of the Working Party for the Accession of China to the World Trade Organization, the Governments of the United States and China established agreed levels for certain cotton, wool, man-made fiber, silk blend and other vegetable fiber textiles and textile products, produced or manufactured in China and exported to the United States during three one-year periods beginning on January 1, 2006 and extending through December 31, 2008.

The agreed levels published below may be adjusted during the course of the year for “carryover,” or “carryforward” used in 2007, under the terms of the MOU. The limits for Categories 345/645/646 and 352/652 below have been adjusted for carryforward applied to the 2007 limits.

Baby socks in HTS numbers 6111.20.6050, 6111.30.5050 and 6111.90.5050 shall be counted in dozen pairs. These baby socks are subject to the quota level for 332/432/632-T and the sublevel for 332/432/632-B but the correct category designation 239 will be required at the time of entry for quota purposes.

In the letter published below, the Chairman of CITA directs the Commissioner, U.S. Customs and Border Protection (CBP), to establish the 2008 limits.

A description of the textile and apparel categories in terms of HTS numbers is available in the CORRELATION: Textile and Apparel Categories with the Harmonized Tariff Schedule of the United States (refer to the Office of Textiles and Apparel website at http://otexa.ita.doc.gov).

R. Matthew Priest,
Chairman, Committee for the Implementation of Textile Agreements.

Committee for the Implementation of Textile Agreements

November 27, 2007.

Commissioner,

U.S. Customs and Border Protection, Washington, DC 20229.

Dear Commissioner: Pursuant to the Memorandum of Understanding between the Governments of the United States of America and the People's Republic of China, Concerning Trade in Textiles and Apparel Products, dated November 8, 2005, you are directed to prohibit, effective on January 1, 2008, entry into the United States for consumption and withdrawal from warehouse for consumption of cotton, wool, man-made fiber, silk blend and other vegetable fiber textiles and textile products in the following categories and HTS numbers 6111.20.6050, 6111.30.5050 and 6111.90.5050, produced or manufactured in China and exported during the twelve-month period beginning on January 1, 2008 and extending through December 31, 2008, in excess of the following agreed levels:

Category | Restraint Period
200/301 | 10,131,052 kilograms.
222 | 21,482,908 kilograms.
229 | 45,007,492 kilograms.
332/432/632-T (plus baby socks) ¹. | 85,058,437 dozen pairs, of which not more than 80,866,195 dozen pairs shall be in categories 332/432/632-B (plus baby socks) ².
338/339pt. ³ | 26,938,606 dozen.
340/640 | 8,724,590 dozen.
345/645/646 | 10,581,854 dozen.
347/348 | 25,442,951 dozen.
349/649 | 29,479,266 dozen.
352/652 | 24,302,011 dozen.
359-S/659-S ⁴ | 5,990,767 kilograms.
363 | 134,828,519 numbers.
443 | 1,756,637 numbers.
447 | 280,581 dozen.
619 | 72,177,600 square meters.
620 | 103,755,190 square meters.
622 | 43,412,575 square meters.
638/639pt. ⁵ | 10,427,707 dozen.
647/648pt. ⁶ | 10,298,709 dozen.
666pt. ⁷ | 1,268,884 kilograms.
847 | 23,029,668 dozen.
¹ Categories 332/432/632-T: baby socks: only HTS numbers 6111.20.6050, 6111.30.5050 and 6111.90.5050; within Category 632: only HTS numbers 6115.10.4000, 6115.10.5500, 6115.30.9010, 6115.96.6020, 6115.99.1420, 6115.96.9020, 6115.99.1920.
² Categories 332/432/632-B: baby socks: only HTS numbers 6111.20.6050, 6111.30.5050 and 6111.90.5050; within Category 632: only HTS numbers 6115.10.4000, 6115.10.5500, 6115.96.6020, 6115.96.9020, 6115.99.1420, 6115.99.1920.
³ Categories 338/339pt: all HTS numbers except: 6110.20.1026, 6110.20.1031, 6110.20.2067, 6110.20.2077, 6110.90.9067, and 6110.90.9071.
⁴ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.
⁵ Categories 638/639pt.: all HTS numbers except: 6110.30.2051, 6110.30.2061, 6110.30.3051, 6110.30.3057, 6110.90.9079, and 6110.90.9081.
⁶ Categories 647/648pt.: all HTS numbers except 6203.43.3510, 6204.63.3010, 6210.40.5031, 6210.50.5031, 6211.20.1525 and 6211.20.1555.
⁷ Category 666pt.: only HTS numbers 6303.12.0010 and 6303.92.2030.

Baby socks in HTS numbers 6111.20.6050, 6111.30.5050 and 6111.90.5050 shall be counted in dozen pairs for quota purposes. These baby socks are subject to the quota level for 332/432/632-T and the sublevel for 332/432/632-B but the correct category designation 239 will be required at the time of entry for quota purposes.

The agreed levels set forth above are subject to adjustment pursuant to the current MOU between the Governments of the United States and China.

Products in the above categories and HTS numbers 6111.20.6050, 6111.30.5050, and 6111.90.5050 exported during 2007 shall be charged to the applicable category limits for that year (see directive dated October 23, 2006) to the extent of any unfilled balances. In the event the limits established for that period have been exhausted by previous entries, such products shall be charged to the limits set forth in this directive.

Sincerely,

R. Matthew Priest,

Chairman, Committee for the Implementation of Textile Agreements.

[FR Doc. E7-23304 Filed 11-29-07; 8:45 am]

BILLING CODE 3510-DS-S